DEPARTMENT OF THE INTERIOR

Bureau of Land Management

[LLORB00000. L10200000. BS0000.LXSSH1060000.19X.HAG 19-0058]

Notice of Public Meeting for the Southeast Oregon Resource Advisory Council Public Lands Access Subcommittee

AGENCY: Bureau of Land Management, Interior.

ACTION: Notice of public meeting.

SUMMARY: In accordance with the Federal Land Policy and Management Act of 1976 and the Federal Advisory Committee Act of 1972, the U.S. Department of the Interior, Bureau of Land Management (BLM) Southeast Oregon Resource Advisory Council (RAC) Public Lands Access Subcommittee will meet as indicated below.

DATES: The Southeast Oregon RAC Public Lands Access Subcommittee will meet via teleconference Wednesday, May 29, 2019, from 9:00 a.m. to 2:00 p.m. Mountain Time.

ADDRESSES: The Southeast Oregon RAC Public Lands Access Subcommittee meeting will be held via teleconference. The telephone conference line number for the meeting is 1-877-922-8971, Participant Code: 5867492.

FOR FURTHER INFORMATION CONTACT: Larisa Bogardus; Public Affairs Officer; 3100 H Street, Baker City, Oregon 97814; 541-523-1407; lbogardus@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Southeast Oregon RAC was chartered and its members appointed by the Secretary of the Interior. The members provide diverse perspectives in commodity, conservation, and general interests. The Public Lands Access Subcommittee was formed in May 2018 to compile information regarding public lands access issues in southeast Oregon. This Subcommittee is involved in providing information to the Southeast RAC on the Southeast Oregon Resource Management Plan (RMP) Amendment and Draft Environmental Impact Statement (EIS). The meeting will include review and discussion of the draft RMP Amendment and Draft EIS as part of the public participation process. A final agenda will be posted online at https://www.blm.gov/get-involved/resource-advisory-council/near-you/oregon-washington/southeast-oregon-rac at least one week prior to the teleconference.

All meetings are open to the public in their entirety and a public comment period is scheduled for 11:30 a.m. to noon.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Holly Orr,
Burns Associate District Manager.

[FR Doc. 2019-08850 Filed 4-30-19; 8:45 am]

BILLING CODE 4310-33-P